DEPARTMENT OF COMMERCE

International Trade Administration

[A-570-838]

Notice of Amendment to the Agreement Between the United States Department of Commerce and the Government of the People's Republic of China Suspending the Antidumping Investigation on Honey From the People's Republic of China

AGENCY: Import Administration, International Trade Administration, Department of Commerce.

SUMMARY: The Department of Commerce and the Government of the People's Republic of China have signed an Amendment to the Agreement Suspending the Antidumping Investigation on Honey from China

EFFECTIVE DATE: July 31, 2000.

FOR FURTHER INFORMATION CONTACT: Becky Hagen or James Doyle, Import Administration, International Trade Administration, U.S. Department of Commerce, 14th Street and Constitution Avenue, NW, Washington, D.C. 20230; telephone: (202) 482-3362 (Hagen) and (202) 482-0159 (Doyle).

SUPPLEMENTARY INFORMATION:

Background

On July 5, 2000, the Department of Commerce (“Department”) and the Government of the People's Republic of China (“PRC”) initialed an Amendment to provide for the continuation of exports of honey from the PRC to the United States until August 1, 2001. The Department subsequently released the Amendment to interested parties for comment. No interested party filed comments and therefore the Department and the Government of the PRC signed a final Amendment on July 31, 2000. The text of the final Amendment follows this notice.

Dated: August 10, 2000.
Troy H. Cribb,
Acting Assistant Secretary for Import Administration.

Amendment to the Antidumping Suspension Agreement on Honey Between the United States Department of Commerce and the Government of the People's Republic of China

The United States Department of Commerce (Department) and the Government of the People's Republic of China (PRC) hereby amend Section XII of the Agreement Suspending the Antidumping Investigation on Honey from the People's Republic of China, signed August 2, 1995, as amended, by adding the following language immediately after the first sentence of Section XII:

In order to provide for the continuation of exports of honey from the PRC to the United States during and immediately following the Department's administrative review pursuant to section 751(a) of the Act and the five-year review by the Department and the International Trade Commission pursuant to section 751(c) of the Act, the export limits provided for in Section III of this Agreement, as amended, shall remain in force through August 1, 2001.

If, after said date, the underlying proceeding remains suspended, the Government of the PRC and the Department will enter into consultations to agree upon export limits in order to permit future shipments under the Agreement. If, prior to said date, the underlying proceeding is terminated as a result of either the termination review or the sunset review, the Agreement, this Amendment and the export limits contained therein will be terminated.

Dated: July 31, 2000.
Richard W. Moreland,
For the United States Department of Commerce.
Dated July 31, 2000.
Shi Jianzin,
For the Ministry of Foreign Trade and Economic Cooperation, PRC.

[FR Doc. 00-21242 Filed 8-18-00; 8:45 am]

BILLING CODE 3510-DS-P